DEPARTMENT OF HOMELAND SECURITY

Federal Emergency Management Agency

Agency Information Collection Activities: Proposed Collection; Comment Request

[Docket ID: FEMA-2009-0001]

AGENCY: Federal Emergency Management Agency, DHS.

ACTION: Notice; 60-day notice and request for comments; revision of a currently approved information collection; OMB No. 1660-0001; FEMA Form 646-0-1 (new number assignment replacing FEMA Form 85-3), National Defense Executive Reserve Personal Qualifications Statement.

SUMMARY: The Federal Emergency Management Agency, as part of its continuing effort to reduce paperwork and respondent burden, invites the general public and other Federal agencies to take this opportunity to comment on a proposed extension, without change, of a currently approved information collection. In accordance with the Paperwork Reduction Act of 1995, this Notice seeks comments concerning the application process by which FEMA uses to fill positions within the National Defense Executive Reserve Program.

DATES: Comments must be submitted on or before May 12, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Carol L. Johnson NDER Program Manager, FEMA, (202) 646-3328, e-mail Carol.Johnson1@DHS.GOV for additional information. You may contact the Records Management Branch for copies of the proposed collection of information at facsimile number (202) 646-3347 or e-mail address: FEMA-Information-Collections@dhs.gov.

SUPPLEMENTARY INFORMATION: The National Defense Executive Reserve (NDER) program was established by Section 710(e) of the Defense Production Act of 1950, as amended. Under Executive Order 12919, National Defense Industrial Resources Preparedness, June 3, 1994, Part VI, Section 601, the Administrator of the Federal Emergency Management Agency (FEMA) coordinates the NDER program activities of departments and agencies with NDER units. The Homeland Security Act of 2000 (Pub. L. 107-296) transfers to the Secretary of the Department of Homeland Security (DHS) the authorities and responsibilities of the Administrator of FEMA. Under the provisions of DHS Delegation Number 9000, the Secretary has delegated authority to perform functions relating to the NDER program to the Administrator of FEMA.

Collection of Information

Title: National Defense Executive Reserve Personal Qualifications Statement.

Type of Information Collection: Revision of a currently approved information collection.

OMB Number: 1660-0001.

Form Titles and Numbers: FEMA Form 646-0-1 (new number assignment replacing FEMA Form 85-3), National Defense Executive Reserve Personal Qualifications Statement.

Abstract: FEMA Form 646-0-1, National Defense Executive Reserve Personal Qualifications Statement, is an application form that is used by Federal departments and agencies to fill NDER vacancies. To become a Reservist, individuals with the requisite qualifications must complete the application form. FEMA serves as the NDER coordinator for all Federal departments and agencies, ensuring that applicants are not already serving in a Federal department or agency sponsored unit and determines the Federal department or agency best suited for the applicant.

Affected Public: “Individuals or households”.

Estimated Total Annual Burden Hours: 5 Hours.

Table A.12—Estimated Annualized Burden Hours and Costs
Type of respondent | Form name/form no. | Number of respondents | Number of responses per respondent | Avg. burden per response (in hours) | Total annual burden (in hours) | Avg. hourly wage rate | Total annual respondent cost
Individuals or households | National Defense Executive Reserve Personal Qualifications Statement / FEMA Form 646-0-1 | 10 | 1 | .5 Hours | 5 Hours | 72.77 | $363.86
Total |  | 10 |  |  | 5 Hours |  | $363.86

Estimated Cost: The estimated annualized cost to respondents based on wage rate categories is $363.86.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-5498 Filed 3-12-09; 8:45 am]

BILLING CODE 9110-23-P